DEPARTMENT OF THE INTERIOR

National Park Service

Notice of Availability for a Final Environmental Impact Statement for the General Management Plan, Big South Fork National River and Recreation Area, Kentucky and Tennessee

SUMMARY: Pursuant to section 102(2)(C) of the National Environmental Policy Act of 1969 and National Park Service policy in Director's Order Number 2 (Park Planning) and Director's Order Number 12 (Conservation Planning, Environmental Impact Analysis, and Decision-making) the National Park Service announces the availability of a Final Environmental Impact Statement and General Management Plan (FEIS/GMP) for Big South Fork National River and Recreation Area (NRRA), Kentucky and Tennessee.

The FEIS/GMP analyzes three action alternatives and one no-action alternative for guiding management of the park over the next 15 to 20 years. The three action alternatives incorporate various management prescriptions to ensure resource protection and quality visitor experiences. The agency preferred alternative proposes a system of seven management zones and a formal, designated roads and trails system. The FEIS analyzes the potential environmental impacts of the alternatives.

ADDRESSES: Limited numbers of copies of the FEIS/GMP are available from the Superintendent, Big South Fork NRRA, 4564 Leatherwood Ford Road, Oneida, TN 37841, or by calling (423) 569-9778. An electronic copy of the FEIS/GMP is available on the Internet at http://www.nps.gov/biso.

SUPPLEMENTARY INFORMATION: The National Park Service held a series of community and focus group meetings to gather stakeholder input during the preparation of the Supplemental Draft EIS/GMP. The meetings assisted the National Park Service in developing alternatives for managing the natural, cultural, and recreational resources of Big South Fork NRRA.

The four alternatives were incorporated into the Supplemental Draft EIS/GMP and presented at community forums in March 2003. Responses from the meetings, plus 170 written comments from the public and other agencies helped refine the alternatives.

The FEIS/GMP differs from the Supplemental Draft by providing some additional recreational opportunities and proposing trail standards that are more protective of the backcountry environment. For example, the final plan allows bicycles on 13 miles of low-use, existing trails; provides a new access point for equestrians; proposes an additional horse trail on an existing alignment; and strengthens trail standards regarding slope and water management. The foregoing changes will not result in environmental impacts different from those analyzed in the Supplemental Draft EIS/GMP.

FOR FURTHER INFORMATION CONTACT: Christopher J. Stubbs, Community Planner, Big South Fork NRRA, 4564 Leatherwood Ford Road, Oneida, TN 37841. Telephone: (423) 569-9778.

The responsible official for this Environmental Impact Statement is Patricia A. Hooks, Regional Director, Southeast Region, National Park Service, 100 Alabama Street SW., 1924 Building, Atlanta, Georgia 30303.

Dated: January 7, 2005.
Francis Peltier,
Associate Regional Director, Southeast Region.

[FR Doc. 05-3504 Filed 2-23-05; 8:45 am]

BILLING CODE 4312-52-P